DEPARTMENT OF DEFENSE

Office of the Secretary

Defense Science Board

AGENCY: Department of Defense.

ACTION: Notice of Advisory Committee meeting cancellation.

SUMMARY: On Friday, January 24, 2003 (67 FR 3516), the Department of Defense announced a closed meeting of the Defense Science Board Task Force on Red Teaming. The meeting scheduled for March 24, 2003, was canceled.

Dated: March 19, 2003.
Patricia L. Toppings,
Alternate OSD Federal Register Liaison Officer, Department of Defense.

[FR Doc. 03-7093 Filed 3-25-03; 8:45 am]

BILLING CODE 5001-08-M